OFFICE OF PERSONNEL MANAGEMENT

Senior Executive Service—Performance Review Board

AGENCY: Office of Personnel Management.

ACTION: Notice.

SUMMARY: Notice is hereby given of the appointment of members of the OPM Performance Review Board.

FOR FURTHER INFORMATION CONTACT: Kimberly Sylke, OPM Human Resources, Office of Personnel Management, 1900 E Street NW, Washington, DC 20415, (202) 936-3339.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor and considers recommendations to the appointing authority regarding the performance of the senior executive.

Office of Personnel Management.
Jerson Matias,
Federal Register Liaison.

The following have been designated as members of the Fiscal Year 2025 Performance Review Board of the U.S. Office of Personnel Management:

James Sullivan, Chief of Staff (Chair)

Christina Bonarrigo, Deputy Chief of Staff

Carmen Garcia, Chief Human Capital Officer

Marina Golovkina, White House Liaison

Colleen Heller-Stein, Executive Director CHCO Council

Andrew Kloster, General Counsel

Joseph Knouff, Suitability Director

Margaret Pearson, Associate Director, Retirement Services

Dianna Saxman, Associate Director, Human Resources Solutions

[FR Doc. 2025-16586 Filed 8-28-25; 8:45 am]

BILLING CODE 6325-45-P